DEPARTMENT OF ENERGY

Federal Energy Regulatory Commission

Privacy Act of 1974; System of Records

AGENCY: Federal Energy Regulatory Commission, DOE.

ACTION: Notice of a modified system of records.

SUMMARY: The Federal Energy Regulatory Commission (FERC) is publishing notice of modifications to an existing FERC system of records, FERC-24 titled Commission Miscellaneous Investigation File. This notice adds 11 new routine uses, including two prescribed by the Office of Management and Budget (OMB) Memorandum M-17-12, Preparing for and Responding to a Breach of Personally Identifiable Information, January 3, 2017, that will permit FERC to disclose information as necessary in response to an actual or suspected breach of its own records or to assist another agency in its efforts to respond to a breach. This System of Records Notice (SORN) also describes the Commission's systems manager and location change.

DATES: In accordance with 5 U.S.C. 552a(e)(4) and (11), this system of records notice is effective upon publication, with the exception of the routine uses, which will go into effect on December 20, 2021, unless comments have been received from interested members of the public requiring modification and republication of the notice. Please submit any comments by December 20, 2021.

ADDRESSES: Any person interested in commenting on the establishment of this modified system of records may do so by submitting comments electronically to: Privacy@ferc.gov (Include reference to “Commission Miscellaneous Investigation File” in the subject line of the message.)

For United States Postal Service-delivered mail: Director, Office of External Affairs, Federal Energy Regulatory Commission, 888 First Street NE, Room 4A-05, Washington, DC 20426.

For hand-delivered or courier-delivered mail: Director, Office of External Affairs, Federal Energy Regulatory Commission, 12225 Wilkins Avenue, Rockville, Maryland 20852.

FOR FURTHER INFORMATION CONTACT: Director, Workforce Relations, Chief Human Capital Officer, Office of the Executive Director, 888 First Street NE, Washington, DC 20426, (202) 502-6475.

SUPPLEMENTARY INFORMATION: The Commission Miscellaneous Investigation File notice is being modified. The notice includes 11 new routine uses, including two prescribed routine uses that will permit FERC to disclose information as necessary in response to an actual or suspected breach of its own records or to assist another agency in its efforts to respond to a breach. This notice also addresses the system's manager and location change, while also providing additional specificity on the category of employees and employee matters contained in the system of records.

SYSTEM NAME AND NUMBER:

Commission Miscellaneous Investigation File: FERC-24.

SECURITY CLASSIFICATION:

Unclassified.

SYSTEM LOCATION:

Federal Energy Regulatory Commission, Office of the Executive Director, Workforce Relations Division (CHCO), 888 First Street NE, Washington, DC 20426.

SYSTEM MANAGER(S):

Director, Workforce Relations Division, Chief Human Capital Officer, Office of the Executive Director, 888 First Street NE, Washington, DC 20426, (202) 502-6475.

AUTHORITY FOR MAINTENANCE OF THE SYSTEM:

The Rehabilitation Act, 29 U.S.C. 791 et. seq.

Title VII of the Civil Rights Act, 42 U.S.C. 2000e et. seq.

Executive Order No. 13164.

Executive Order No. 13991.

29 CFR part 1614—Federal Sector Equal Employment Opportunity.

5 CFR part 735—Employee responsibilities and conduct.

PURPOSE(S) OF THE SYSTEM:

To maintain documentation on employee matters that are not part of a formal grievance process require collection of employee information by management in order to process request and/or render decisions in accordance with applicable law, rule or regulation preserve and maintain confidentiality. This may include, among other considerations, requests for reasonable accommodation, medical or religious accommodation, religious compensatory time off, or anti-harassment allegations.

CATEGORIES OF INDIVIDUALS COVERED BY THE SYSTEM:

For matters that do not involve a formal grievance or appeal process, or formal Department of Energy Inspector General inquiry, which may include among other matters: (1) Employees requesting exception to agency policy, adjustment to the job or adjustment to the work environment under applicable law, rules or regulations; and (2) employees petitioning for informal inquiry into allegations of workplace harassment not that are not covered under Title VII.

CATEGORIES OF RECORDS IN THE SYSTEM:

Formal reports of inquiry and supporting documentation; records of actions taken resulting from the inquiry and supporting documentation for the inquiry and the response; medical forms, medical documents, documentation from healthcare providers, religious affiliation information, and other related supporting documents; and decision documents.

RECORD SOURCE CATEGORIES:

Information in this system of records comes from the individual to whom it applies; is derived from information supplied by that individual; or created by management officials to summarize findings and/or develop recommendations for action.

ROUTINE USES OF RECORDS MAINTAINED IN THE SYSTEM, INCLUDING CATEGORIES OF USERS AND PURPOSES OF SUCH USES:

In addition to those disclosures generally permitted under 5 U.S.C. 552a(b) of the Privacy Act, information maintained in this system may be disclosed to authorized entities outside FERC for purposes determined to be relevant and necessary as a routine use pursuant to 5 U.S.C. 552a(b)(3) as follows:

1. To appropriate agencies, entities, and persons when (1) FERC suspects or has confirmed that there has been a breach of the system of records; (2) FERC has determined that as a result of the suspected or confirmed breach there is a risk of harm to individuals, the Commission (including its information systems, programs, and operations), the Federal Government, or national security; and (3) the disclosure made to such agencies, entities, and persons is reasonably necessary to assist in connection with the Commission's efforts to respond to the suspected or confirmed breach or to prevent, minimize, or remedy such harm.

2. To another Federal agency or Federal entity, when FERC determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

3. To a congressional office from the record of an individual in response to an inquiry from that congressional office made at the request of that individual.

4. To the Equal Employment Opportunity Commission (EEOC) when requested in connection with investigations of alleged or possible discriminatory practices, examination of Federal affirmative employment programs, or other functions of the Commission as authorized by law or regulation.

5. To the Federal Labor Relations Authority or its General Counsel when requested in connection with investigations of allegations of unfair labor practices or matters before the Federal Service Impasses Panel.

6. To disclose information to another Federal agency, to a court, or a party in litigation before a court or in an administrative proceeding being conducted by a Federal agency, where the record is relevant and necessary to the proceeding and the Government is a party to the judicial or administrative proceeding. In those cases where the Government is not a party to the proceeding, records may be disclosed if a subpoena has been signed by a judge.

7. To the Department of Justice (DOJ) for its use in providing legal advice to FERC or in representing FERC in a proceeding before a court, adjudicative body, or other administrative body, where the use of such information by the DOJ is deemed by FERC to be relevant and necessary to the advice or proceeding, and such proceeding names as a party in interest: (a) FERC; (b) any employee of FERC in his or her official capacity; (c) any employee of FERC in his or her individual capacity where DOJ has agreed to represent the employee; or (d) the United States, where FERC determines that litigation is likely to affect FERC or any of its components.

8. To non-Federal Personnel, such as contractors, agents, or other authorized individuals performing work on a contract, service, cooperative agreement, job, or other activity on behalf of FERC or Federal Government and who have a need to access the information in the performance of their duties or activities.

9. To the National Archives and Records Administration in records management inspections and its role as Archivist, as permitted by 44 U.S.C. 2904 and 2906.

10. To the Merit Systems Protection Board or the Board's Office of the Special Counsel, when relevant information is requested in connection with appeals, special studies of the civil service and other merit systems, review of Office of Personnel Management (OPM) rules and regulations, and investigations of alleged or possible prohibited personnel practices.

11. To appropriate Federal, State, or local agency responsible for investigating, prosecuting, enforcing, or implementing a statute, rule, regulation, or order, where the record indicates a violation or potential violation of civil or criminal law, rule, regulation, order.

12. To serve as a data source for OPM or Government Accountability Office (GAO) during the course of on-site inspections or audits.

POLICIES AND PRACTICES FOR STORAGE OF RECORDS:

Paper (assorted documents) or electronic media. Data center buildings are guarded and monitored by security personnel, cameras, ID checks, and other physical security measures. Physical access to the server rooms is limited to authorized personnel only. Records are maintained in lockable file cabinets in a lockable room with access limited to those employees whose official duties require access; servers are stored in secured facilities in cipher locked server rooms. Computer data is secured by password. The system is secured with the safeguards required by FedRAMP and NIST SP 800-53.

POLICIES AND PRACTICES FOR RETRIEVAL OF RECORDS:

Records may be retrieved by employee's name or employee ID number.

POLICIES AND PRACTICES FOR RETENTION AND DISPOSAL OF RECORDS:

Records are retained under the National Archives and Records Administration's General Records Schedule 2.3. Destroy 3 years after being superseded, but longer retention is authorized if required for business use. Destroy 3 years after employee separation from the agency or all matters are concluded, whichever is later, but longer retention is authorized if required for business use.

ADMINISTRATIVE, TECHNICAL, AND PHYSICAL SAFEGUARDS:

All FERC employees and contractors with authorized access have undergone a thorough background security investigation. Data access is restricted to agency personnel or contractors whose responsibilities require access. Access to electronic records is controlled by “User ID” and password combination and/or other network access or security controls (e.g., firewalls). The system is secured with the safeguards required by FedRAMP and NIST SP 800-53. Physical access to FERC is controlled by security guards and admission is limited to those individuals possessing a valid identification card or individuals under proper escort.

RECORD ACCESS PROCEDURES:

Submit a Privacy Act Request:

The Privacy Act permits access to records about yourself that are maintained by FERC in a Privacy Act system of records. In addition, you may request that incorrect or incomplete information be changed or amended. Privacy requests follow FERC's Freedom of Information Act (FOIA) request process. You may access the FOIA website at https://www.ferc.gov/freedom-information-act-foia-and-privacy-act.

For questions: Contact the FOIA Service Center at 202-502-6088 or by email at foia-ceii@ferc.gov. Written request for access to records should be directed to:

For United States Postal Service-delivered mail: Director, Office of External Affairs, Federal Energy Regulatory Commission, 888 First Street NE, Washington, DC 20426.

For hand-delivered or courier-delivered mail: Director, Office of External Affairs, Federal Energy Regulatory Commission, 12225 Wilkins Avenue, Rockville, Maryland 20852.

CONTESTING RECORD PROCEDURES:

The Privacy Act permits access to records about yourself that are maintained by FERC in a Privacy Act system of records. In addition, you may request that incorrect or incomplete information be changed or amended. Privacy requests follow FERC's Freedom of Information Act (FOIA) request process. You may access the FOIA website at https://www.ferc.gov/freedom-information-act-foia-and-privacy-act.

For questions: Contact the FOIA Service Center at 202-502-6088 or by email at foia-ceii@ferc.gov.

Written request for access to records should be directed to:

For United States Postal Service-delivered mail: Director, Office of External Affairs, Federal Energy Regulatory Commission, 888 First Street NE, Washington, DC 20426.

For hand-delivered or courier-delivered mail: Director, Office of External Affairs, Federal Energy Regulatory Commission, 12225 Wilkins Avenue, Rockville, Maryland 20852.

NOTIFICATION PROCEDURES:

The Privacy Act permits access to records about yourself that are maintained by FERC in a Privacy Act system of records. In addition, you may request that incorrect or incomplete information be changed or amended.

Privacy requests follow FERC's Freedom of Information Act (FOIA) request process. You may access the FOIA website at https://www.ferc.gov/freedom-information-act-foia-and-privacy-act.

For questions: Contact the FOIA Service Center at 202-502-6088 or by email at foia-ceii@ferc.gov.

Written request for access to records should be directed to:

For United States Postal Service-delivered mail: Director, Office of External Affairs, Federal Energy Regulatory Commission, 888 First Street NE, Washington, DC 20426.

For hand-delivered or courier-delivered mail: Director, Office of External Affairs, Federal Energy Regulatory Commission, 12225 Wilkins Avenue, Rockville, Maryland 20852.

EXEMPTIONS PROMULGATED FOR THE SYSTEM:

None.

HISTORY:

FERC-24 Commission Miscellaneous Investigation File was last published at Federal Register Vol. 65, No. 79, Monday, April 24, 2000.

Dated: November 16, 2021.
Kimberly D. Bose,
Secretary.

[FR Doc. 2021-25285 Filed 11-18-21; 8:45 am]

BILLING CODE 6717-01-P